DEPARTMENT OF LABOR

Occupational Safety and Health Administration

National Advisory Committee on Ergonomics, Call for Abstracts

AGENCY: Occupational Safety and Health Administration (OSHA), Labor.

ACTION: Notice; extension of time to submit abstracts.

SUMMARY: On October 6, 2003, OSHA published a notice (68 FR 57713) soliciting abstracts from persons wishing to make presentations at a symposium entitled “Musculoskeletal and Neurovascular Disorders—the State of the Research Regarding Workplace Etiology and Prevention.” This symposium is scheduled to be held in conjunction with the fourth meeting of the National Advisory Committee on Ergonomics in January 2004. Abstracts were originally due on November 5, 2003. The Agency has decided to extend the deadline for submission of abstracts. Interested persons are asked to refer to the original October 6, 2003 notice for details on content and format for abstracts.

DATES: Abstracts are due December 1, 2003. The symposium will take place on January 27, 2004.

ADDRESSES: The Symposium will be held in Washington, DC. Submit abstracts to MaryAnn Garrahan, Director, Office of Technical Programs and Coordination Activities, OSHA, U.S. Department of Labor, Room N-3655, 200 Constitution Avenue, NW., Washington, DC 20210. Phone: (202) 693-2144; Fax: (202) 693-1644.

FOR FURTHER INFORMATION CONTACT: OSHA, Office of Communications, Room N-3647, U.S. Department of Labor, 200 Constitution Avenue, NW., Washington, DC 20210. Phone: (202) 693-1999.

SUPPLEMENTARY INFORMATION: In conjunction with NACE's fourth meeting in January 2004, a symposium is being convened to enable the committee to hear from experts in ergonomics. In its October 6, 2003 Federal Register notice, OSHA provided the public with information on its plans for the symposium, along with detailed materials to help interested persons to submit abstracts for consideration. Abstracts were originally due on November 5, 2003. However, the Agency is now extending the period for submission of abstracts through December 1, 2003.

Rather than repeating all of the relevant information contained in the October 6, 2003 notice, OSHA asks interested persons to refer directly to that notice for guidance in submitting abstracts. The October 6 notice is available on OSHA's Web site at http://www.osha.gov/FedReg_osha_pdf/FED20031006.pdf.

Authority: This notice was prepared under the direction of John L. Henshaw, Assistant Secretary of Labor for Occupational Safety and Health. It is issued under the Federal Advisory Committee Act (5 U.S.C. App. 2), GSA's FACA Regulations (41 CFR Part 102-3), and DLMS 3 Chapter 1600.

Signed at Washington, DC, this 4th day of November, 2003.
John L. Henshaw,
Assistant Secretary of Labor.

[FR Doc. 03-28092 Filed 11-6-03; 8:45 am]

BILLING CODE 4510-26-P